DEPARTMENT OF HOMELAND SECURITY

[CIS No. 2589-16; DHS Docket No. USCIS-2014-0009]

RIN 1615-ZB57

Six-Month Extension of Temporary Protected Status Benefits for Orderly Transition Before Termination of Sierra Leone's Designation for Temporary Protected Status

AGENCY: U.S. Citizenship and Immigration Services, Department of Homeland Security.

ACTION: Notice.

SUMMARY: The designation of Sierra Leone for Temporary Protected Status (TPS) is set to expire on November 21, 2016. After reviewing relevant country conditions and consulting with the appropriate U.S. Government (Government) agencies, the Secretary of Homeland Security (Secretary) has determined that conditions in Sierra Leone no longer support its designation for TPS and is therefore extending TPS benefits for 6 months for the purpose of orderly transition before the TPS designation of Sierra Leone terminates. This termination will be effective May 21, 2017, 6 months following the end of the current designation.

To provide for an orderly transition, nationals of Sierra Leone (and aliens having no nationality who last habitually resided in Sierra Leone) who have been granted TPS under the Sierra Leone designation will automatically retain their TPS and have their current TPS-based Employment Authorization Documents (EAD) extended through May 20, 2017. However, an individual's TPS may still be withdrawn because of ineligibility for TPS. On May 21, 2017, nationals of Sierra Leone (and aliens having no nationality who last habitually resided in Sierra Leone) who have been granted TPS under the Sierra Leone designation will no longer have TPS.

DATES: The designation of Sierra Leone for TPS is terminated effective at 12:01 a.m., local time, on May 21, 2017.

FOR FURTHER INFORMATION CONTACT: • For further information on TPS, please visit the U.S. Citizenship and Immigration Services (USCIS) TPS Web page at http://www.uscis.gov/tps. You can find specific information about the termination of Sierra Leone's TPS designation by selecting “Sierra Leone” from the menu on the left side of the TPS Web page.

• You can also contact Jerry Rigdon, Chief of the Waivers and Temporary Services Branch, Service Center Operations Directorate, U.S. Citizenship and Immigration Services, Department of Homeland Security, 20 Massachusetts Avenue NW., Washington, DC 20529-2060; or by phone at 202-272-1533 (this is not a toll-free number). Note: The phone number provided here is solely for questions regarding this TPS Notice. It is not for individual case status inquires.

• Applicants seeking information about the status of their individual cases can check Case Status Online, available at the USCIS Web site at http://www.uscis.gov, or call the USCIS National Customer Service Center at 800-375-5283 (TTY 800-767-1833).

• Further information will also be available at local USCIS offices upon publication of this Notice.

SUPPLEMENTARY INFORMATION:

Table of Abbreviations

DHS—Department of Homeland Security

DOS—Department of State

EAD—Employment Authorization Document

EVD—Ebola Virus Disease

FNC—Final Nonconfirmation

Government—U.S. Government

INA—Immigration and Nationality Act

OSC—Department of Justice, Office of Special Counsel for Immigration-Related Unfair Employment Practices

SAVE—USCIS Systematic Alien Verification for Entitlements Program

Secretary—Secretary of Homeland Security

TNC—Tentative Nonconfirmation

TPS—Temporary Protected Status

TTY—Text Telephone

USCIS—U.S. Citizenship and Immigration Services

WHO—World Health Organization

What is Temporary Protected Status (TPS)?

• TPS is a temporary immigration status granted to eligible nationals of a country designated for TPS under the Immigration and Nationality Act (INA), or to eligible persons without nationality who last habitually resided in the designated country.

• During the TPS designation period, TPS beneficiaries are eligible to remain in the United States, may not be removed, and are authorized to work and obtain EADs so long as they continue to meet the requirements of TPS.

• TPS beneficiaries may also be granted travel authorization as a matter of discretion.

• The granting of TPS does not result in or lead to permanent resident status.

• To qualify for TPS, beneficiaries must meet the eligibility criteria described in INA section 244(c), 8 U.S.C. 1254a(c) and 8 CFR part 244.

• When the Secretary terminates a country's TPS designation, beneficiaries return to the same immigration status they maintained before TPS, if any (unless that status has since expired or been terminated), or to any other immigration status they lawfully obtained while registered for TPS.

When was Sierra Leone designated for TPS?

On November 21, 2014, the Secretary designated Sierra Leone for TPS for a period of 18 months due to the extraordinary and temporary conditions caused by an epidemic of Ebola Virus Disease (EVD) in West Africa that prevented nationals of Sierra Leone from returning to Sierra Leone in safety. The conditions included high EVD transmission rates in wide-spread geographic areas, overwhelmed health care systems unable to handle the large number of EVD patients or to provide treatment for normally preventable or treatable conditions, and containment measures that were causing significant disruptions to Sierra Leone's economy and individuals' ability to access food and earn a livelihood. See Designation of Sierra Leone for Temporary Protected Status, 79 FR 69506 (Nov. 21, 2014). The Secretary last announced a 6-month extension of TPS for Sierra Leone on March 22, 2016, based on his determination that although there were significant improvements, conditions supporting the designation persisted. See Extension of the Designation of Sierra Leone for Temporary Protected Status, 81 FR 15334 (Mar. 22, 2016).

What authority does the Secretary have to terminate the designation of Sierra Leone for TPS?

Section 244(b)(1) of the INA, 8 U.S.C. 1254a(b)(1), authorizes the Secretary, after consultation with appropriate Government agencies, to designate a foreign state (or part thereof) for TPS if the Secretary determines that certain country conditions exist.¹ The Secretary may then grant TPS to eligible nationals of that foreign state (or eligible aliens having no nationality who last habitually resided in the designated country). See INA section 244(a)(1)(A), 8 U.S.C. 1254a(a)(1)(A).

¹ As of March 1, 2003, in accordance with section 1517 of title XV of the Homeland Security Act of 2002, Public Law 107-296, 116 Stat. 2135, any reference to the Attorney General in a provision of the INA describing functions transferred from the Department of Justice to the Department of Homeland Security (DHS) “shall be deemed to refer to the Secretary” of Homeland Security. See 6 U.S.C. 557 (codifying the Homeland Security Act of 2002, tit. XV, section 1517).

At least 60 days before the expiration of a country's TPS designation or extension, the Secretary, after consultation with appropriate Government agencies, must review the conditions in a foreign state designated for TPS to determine whether the conditions for the TPS designation continue to be met. See INA section 244(b)(3)(A), 8 U.S.C. 1254a(b)(3)(A). If the Secretary determines that a foreign state continues to meet the conditions for TPS designation, the designation may be extended for an additional period of 6, 12, or 18 months. See INA section 244(b)(3)(C), 8 U.S.C. 1254a(b)(3)(C). If the Secretary determines that the foreign state no longer meets the conditions for TPS designation, the Secretary must terminate the designation, but such termination may not take effect earlier than 60 days after the date the Federal Register notice of termination is published, or if later, the expiration of the most recent previous extension of the country designation. See INA section 244(b)(3)(B), 8 U.S.C. 1254a(b)(3)(B). The Secretary may determine the appropriate effective date of the termination and the expiration of any TPS-related documentation, such as EADs, for the purpose of providing an orderly transition. See id.; INA section 244(d)(3), 8 U.S.C. 1254a(d)(3).

Why is the Secretary terminating the designation of Sierra Leone for TPS as of May 21, 2017, after a 6-month extension of TPS benefits for the purpose of orderly transition?

DHS and the Department of State (DOS) have reviewed conditions in Sierra Leone. Based on the reviews and after consulting with DOS, the Secretary has determined that the termination of the TPS designation of Sierra Leone, after a 6-month extension of TPS benefits for orderly transition, is required because the extraordinary and temporary conditions that prompted Sierra Leone's designation for TPS have substantially resolved and no longer prevent nationals of Sierra Leone from returning in safety.

Guinea, Liberia, and Sierra Leone were designated for TPS in the midst of the largest EVD outbreak in history. From March 2014 through November 2015, these three countries suffered over 11,000 deaths among their more than 28,500 cases of EVD. At the height of the outbreak in late 2014, Ebola was spreading rapidly, with hundreds of new cases being reported each week, the health care systems overwhelmed, and containment measures causing significant disruptions to individuals' ability to access food and earn a livelihood. While the impacts of the epidemic pose a lasting challenge to Sierra Leone's economy and the capacity of its health system to provide treatment for preventable or treatable conditions, at this time, the EVD epidemic has subsided, and conditions have improved since the Secretary initially designated Sierra Leone for TPS.

A robust response by the international community and the governments of Guinea, Liberia, and Sierra Leone has brought the EVD epidemic in West Africa under control and begun the long-term work of rebuilding regional economies and health systems. In Sierra Leone, the EVD epidemic started in May 2014 and peaked between October and December 2014. Sierra Leone's government and international partners mounted an effective response that dramatically decreased the number of new EVD cases from a high of 500 per week in late 2014 to between 8 to 12 cases in June 2015, to single digits in August 2015. After a small cluster (2 cases) of EVD in January 2016, the World Health Organization (WHO) declared Sierra Leone free of EVD transmission as of March 17, 2016. As of June 2016, Guinea, Liberia, and Sierra Leone were all free of EVD transmission. While the risk of flare-ups of EVD remains, efforts are underway to promote, over time, robust prevention, surveillance, and response capacity across all three countries.

In Sierra Leone, donors and the Sierra Leone government are closing down most of their EVD-specific facilities and transitioning relevant equipment to other health care needs. The Sierra Leone government and international partners continue to monitor infection control and prevention measures at hospitals. Schools are open and business hours have been extended to help jump-start economic activity. The U.S. Department of Health and Human Services, Centers for Disease Control and Prevention has no Ebola-related Travel Health Notice in place for Sierra Leone as of the date of this Notice.

While health systems and facilities remain fragile, medical centers are no longer overwhelmed by patients with EVD. High rates of child mortality both before and since the EVD epidemic are indicative of the overall fragility of the health system. Although this is comparable to other countries in the region, systems in Sierra Leone must also be able to address ongoing issues of trust between healthcare facilities and communities, as well as continue to care for Ebola survivors who have a series of ongoing and previously unforeseen health conditions, both of which will continue to exacerbate and underscore the fragility of these systems. Normal business activity and national life have largely resumed, although work is ongoing to rebuild Sierra Leone's economy and health care system. On March 29, 2016, the WHO Director-General declared the end of the Public Health Emergency of International Concern regarding the EVD outbreak in West Africa. In conjunction with ending the public health emergency, the WHO emphasized there should be no restrictions on travel and trade with Guinea, Liberia, and Sierra Leone.

Based upon this review and after consultation with appropriate Government agencies, the Secretary has determined that Sierra Leone no longer continues to meet the statutorily required conditions for a TPS designation on the basis of extraordinary and temporary conditions, because the extraordinary and temporary conditions that prompted Sierra Leone's TPS designation have substantially resolved and no longer prevent nationals of Sierra Leone from returning to Sierra Leone in safety. Therefore, after a 6-month extension of TPS benefits for orderly transition, the Secretary is terminating the TPS designation of Sierra Leone effective at 12:01 a.m., local time, on May 21, 2017. See INA section 244(b)(3)(B), 8 U.S.C. 1254a(b)(3)(B).

To provide for an orderly transition, individuals who have been granted TPS under Sierra Leone's designation will automatically retain TPS and have their current EADs extended until the termination date. See INA section 244(d)(3), 8 U.S.C. 1254a(d)(3). DHS may, however, withdraw TPS from any beneficiary who fails to continue meeting the requirements for TPS. See INA section 244(c)(3), 8 U.S.C. 1254a(c)(3). There are approximately 1,180 current Sierra Leone TPS beneficiaries. These persons are urged to use the time before termination of their TPS to prepare for and arrange their departure from the United States or, in the alternative, to apply for other immigration benefits for which they are eligible.

Notice of Six-Month Extension of TPS Benefits for Orderly Transition Before Termination of the TPS Designation of Sierra Leone

By the authority vested in me as Secretary under INA section 244, 8 U.S.C. 1254a, I have determined, after consultation with the appropriate Government agencies, that Sierra Leone no longer meets the conditions for designation of TPS under 244(b)(1) of the Act. 8 U.S.C. 1254a(b)(1).

Accordingly, I order as follows:

(1) Pursuant to INA section 244(b)(3)(B), the designation of Sierra Leone for TPS is terminated effective at 12:01 a.m., local time, on May 21, 2017, 6 months following the end of the current designation.

(2) DHS estimates that there are approximately 1,180 nationals of Sierra Leone (and aliens having no nationality who last habitually resided in Sierra Leone) who currently receive TPS benefits.

(3) To provide for an orderly transition, nationals of Sierra Leone (and aliens having no nationality who last habitually resided in Sierra Leone) who have been granted TPS under the Sierra Leone designation will automatically retain TPS until the May 21, 2017 termination date. However, an individual's TPS may still be withdrawn before this date pursuant to INA section 244(c)(3) and 8 CFR 244.14 because of ineligibility for TPS.

(4) TPS-related EADs that expire on November 21, 2016, are extended automatically through May 20, 2017, for qualified nationals of Sierra Leone (and aliens having no nationality who last habitually resided in Sierra Leone).

(5) Information concerning the termination of TPS for nationals of Sierra Leone (and aliens having no nationality who last habitually resided in Sierra Leone) will be available at local USCIS offices upon publication of this Notice and through the USCIS National Customer Service Center at 1-800-375-5283. This information will be published on the USCIS Web site at www.USCIS.gov.

Jeh Charles Johnson,
Secretary.

If I currently have TPS under Sierra Leone's designation, do I need to re-register to keep my TPS until May 21, 2017, the termination date?

No. If you already have been granted TPS benefits through the Sierra Leone TPS program, you do not have to re-register to keep your TPS benefits. You will automatically retain TPS until the termination date. However, your TPS may still be withdrawn under INA section 244(c)(3) and 8 CFR part 244 because of ineligibility for TPS. 8 U.S.C. 1254a(c)(3), 8 CFR 244.14. When termination becomes effective on May 21, 2017, you will no longer have TPS.

Why is the Secretary automatically extending the validity of EADs from November 21, 2016, through May 20, 2017?

The Secretary has decided to extend automatically the validity of EADs to provide for an orderly transition leading up to the effective date for the termination of the Sierra Leone TPS designation. Therefore, the validity of the applicable EADs is extended for a period of 6 months, through May 20, 2017. 8 U.S.C. 1254a(a)(2) and (d)(3).

Must qualified individuals apply for the automatic extension of their TPS-related EADs through May 20, 2017?

No. Qualified individuals do not have to apply for this extension of their TPS-related EADs through May 20, 2017.

What may I do if I believe that returning to Sierra Leone is not possible or preferable for me?

This Notice terminates the designation of Sierra Leone for TPS. Nationals of Sierra Leone (and aliens having no nationality who last habitually resided in Sierra Leone) in the United States who believe returning to Sierra Leone is not possible or preferable for them may be eligible to apply for another immigration status, such as lawful permanent residence, asylum, or a nonimmigrant status. Eligibility for these and other immigration benefits is determined individually on a case-by-case basis. For information about eligibility and how to apply, visit the USCIS Web site at www.USCIS.gov or call the USCIS National Customer Service Center at 1-800-375-5283.

How does the termination of TPS affect my immigration status and what can I do?

After the termination of the TPS designation of Sierra Leone becomes effective on May 21, 2017, former TPS beneficiaries will maintain the same immigration status they held before TPS (unless the status has since expired or been terminated) or any other status they may have acquired while registered for TPS. Accordingly, if a TPS beneficiary held no lawful immigration status before being granted TPS and did not obtain any other status during the TPS period, he or she may be subject to removal upon the termination of the TPS designation. TPS-related EADs will expire on May 20, 2017, and will not be renewed.

Termination of the TPS designation for Sierra Leone does not necessarily affect pending applications for other forms of immigration status, relief, or protection. However, former TPS beneficiaries will begin to accrue unlawful presence as of May 21, 2017, if they have not been granted any other immigration status, relief, protection, or authorization to remain in the United States.

Employment Authorization Document (EAD)

How can I obtain information on the status of my EAD request?

To get case status information about your request for an EAD, you can check Case Status Online at http://www.uscis.gov, or call the USCIS National Customer Service Center at 800-375-5283 (TTY 800-767-1833). If your Application for Employment Authorization (Form I-765) has been pending for more than 90 days, and you still need assistance, you may request an EAD inquiry appointment with USCIS by using the InfoPass system at https://infopass.uscis.gov. However, we strongly encourage you first to check Case Status Online or call the USCIS National Customer Service Center for assistance before making an InfoPass appointment.

Am I eligible to receive an automatic 6-month extension of my current EAD through May 20, 2017?

Provided that you currently have TPS under the designation of Sierra Leone, this Notice automatically extends your EAD by 6 months if you:

• Are a national of Sierra Leone (or an alien having no nationality who last habitually resided in Sierra Leone);

• Received an EAD under the last designation of TPS for Sierra Leone; and

• Have an EAD with a marked expiration date of November 21, 2016, bearing the notation “A-12” or “C-19” on the face of the card under “Category.”

When hired, what documentation may I show to my employer as proof of employment authorization and identity when completing Employment Eligibility Verification (Form I-9)?

You can find a list of acceptable document choices on the “Lists of Acceptable Documents” for Form I-9. You can find additional detailed information on the USCIS I-9 Central Web page at http://www.uscis.gov/I-9Central. Employers are required to verify the identity and employment authorization of all new employees by using Employment Eligibility Verification (Form I-9). Within 3 days of being hired, you must present proof of identity and employment authorization to your employer.

You may present any document from List A (reflecting both your identity and employment authorization) or one document from List B (reflecting identity) together with one document from List C (reflecting employment authorization). An EAD is an acceptable document under “List A.” Or you may present an acceptable receipt for a List A, List B, or List C document as described in the Form I-9 Instructions. An acceptable receipt includes a document that shows an employee has applied to replace a required document that was lost, stolen, or damaged. If you present an acceptable receipt for the application of a replacement document, you must present your employer with the actual document within 90 days. Employers may not reject a document based on a future expiration date.

If your EAD has an expiration date of November 21, 2016, and states “A-12” or “C-19” under “Category,” it has been extended automatically for 6 months by virtue of this Federal Register Notice and you may choose to present your EAD to your employer as proof of identity and employment authorization for Form I-9 through November 20, 2016 (see the subsection titled “How do my employer and I complete the Employment Eligibility Verification (Form I-9) using an automatically extended EAD for a new job?” for further information). To minimize confusion over this extension at the time of hire, you should explain to your employer that USCIS has automatically extended your EAD through May 20, 2017. You may also show your employer a copy of this Federal Register Notice confirming the automatic extension of employment authorization through May 20, 2017. As an alternative to presenting your automatically extended EAD, you may choose to present any other acceptable document from List A, a combination of one selection from List B and one selection from List C, or a valid receipt.

What documentation may I show my employer if I am already employed but my current TPS-related EAD is set to expire?

Even though EADs with an expiration date of November 21, 2016, that state “A-12” or “C-19” under “Category” have been automatically extended for 6 months by this Federal Register Notice, your employer will need to ask you about your continued employment authorization once May 21, 2017, is reached to meet its responsibilities for Employment Eligibility Verification (Form I-9). Your employer may need to re-inspect your automatically extended EAD to check the expiration date and code to record the updated expiration date on your Employment Eligibility Verification (Form I-9) if he or she did not keep a copy of this EAD at the time you initially presented it. You and your employer must make corrections to the employment authorization expiration dates in Section 1 and Section 2 of Employment Eligibility Verification (Form I-9) (see the subsection titled “What corrections should my current employer and I make to Employment Eligibility Verification (Form I-9) if my EAD has been automatically extended?” for further information). You are also strongly encouraged, although not required, to show this Federal Register Notice to your employer to explain what to do for Employment Eligibility Verification (Form I-9).

By May 20, 2017, the expiration date of the automatic extension, your employer must reverify your employment authorization. If you are employment authorized beyond the expiration date of the automatic extension, you must present any unexpired document from List A or any unexpired document from List C on Employment Eligibility Verification (Form I-9) to reverify employment authorization, or an acceptable receipt described in the Employment Eligibility Verification (Form I-9) instructions. Your employer is required to reverify on Employment Eligibility Verification (Form I-9) the employment authorization of current employees no later than the automatically extended expiration date of a TPS-related EAD, which is May 20, 2017, in this case. Your employer should use either Section 3 of Employment Eligibility Verification (Form I-9) originally completed for you or, if this section has already been completed or if the version of Employment Eligibility Verification (Form I-9) is no longer valid (check the date in the upper right-hand corner of the form), complete Section 3 of a new Employment Eligibility Verification (Form I-9) using the most current version. Note that your employer may not specify which List A or List C document employees must present, and cannot reject an acceptable receipt. An acceptable receipt is described in the Employment Eligibility Verification (Form I-9) Instructions and includes one that shows an employee has applied to replace a required document that was lost, stolen or damaged.

Can my employer require that I produce any other documentation to prove my current TPS status, such as proof of my Sierra Leonean citizenship?

No. When completing Form I-9, including reverifying employment authorization, employers must accept any documentation that appears on the “Lists of Acceptable Documents” for Form I-9 that reasonably appears to be genuine and that relates to you or an acceptable List A, List B, or List C receipt. Employers may not request documentation that does not appear on the “Lists of Acceptable Documents.” Therefore, employers may not request proof of Sierra Leonean citizenship or proof of re-registration for TPS when completing Employment Eligibility Verification (Form I-9) for new hires or reverifying the employment authorization of current employees. Refer to the Note to Employees section of this Notice for important information about your rights if your employer rejects lawful documentation, requires additional documentation, or otherwise discriminates against you based on your citizenship or immigration status, or your national origin.

What happens after May 20, 2017, for purposes of employment authorization?

After May 20, 2017, employers may no longer accept the EADs that this Federal Register Notice automatically extended.

How do my employer and I complete Employment Eligibility Verification (Form I-9) using an automatically extended EAD for a new job?

When using an automatically extended EAD to complete Employment Eligibility Verification (Form I-9) for a new job before May 21, 2017, you and your employer should do the following:

1. For Section 1, you should:

a. Check “An alien authorized to work;”

b. Write the automatically extended EAD expiration date (May 20, 2017) in the first space; and

c. Write your alien number (USCIS number or A-number) in the second space (your EAD or other document from DHS will have your USCIS number or A-number printed on it; the USCIS number is the same as your A-number without the A prefix).

2. For Section 2, employers should record the:

a. Document title;

b. Issuing authority;

c. Document number; and

d. Automatically extended EAD expiration date (May 20, 2017).

No later than May 20, 2017, employers must reverify your employment authorization in Section 3 of Form I-9.

What corrections should my current employer and I make to Employment Eligibility Verification (Form I-9) if my EAD has been automatically extended?

If you are an existing employee who presented a TPS-related EAD that was valid when you first started your job but that EAD has now been automatically extended, your employer may need to reinspect your automatically extended EAD if your employer does not have a photocopy of the EAD on file, and you and your employer should correct your previously completed Form I-9 as follows:

1. For Section 1, you should:

a. Draw a line through the expiration date in the first space;

b. Write “May 20, 2017” above the previous date;

c. Write “TPS Ext.” in the margin of Section 1; and

d. Initial and date the correction in the margin of Section 1.

2. For Section 2, employers should:

a. Draw a line through the expiration date written in Section 2;

b. Write “May 20, 2017” above the previous date;

c. Write “EAD Ext.” in the margin of Section 2; and

d. Initial and date the correction in the margin of Section 2.

No later than May 21, 2017, when the automatic extension of EADs expires, employers must reverify your employment authorization in Section 3.

As an employer, what are my Employment Eligibility Verification (Form I-9) obligations after May 20, 2017?

Employers are required to reverify an employee's employment authorization in Section 3 of Employment Eligibility Verification (Form I-9) by the expiration date of an automatically extended EAD. Your employee must present unexpired documentation from either List A or List C (or an acceptable Form I-9 receipt) showing he or she is still authorized to work. Employers may not ask for specific documents; employees choose which List A or List C documents to present from the Lists of Acceptable Documents.

If I am an employer enrolled in E-Verify, what do I do when I receive a “Work Authorization Documents Expiration” alert for an automatically extended EAD?

If you have an employee who is a TPS beneficiary who provided a TPS-related EAD when he or she first started working for you, you will receive a “Work Authorization Documents Expiring” case alert when the auto-extension period for this EAD is about to expire. E-Verify will not send an alert for the original November 21, 2016 expiration date. By May 20, 2017, employment authorization must be reverified in Section 3. Employers should not use E-Verify for reverification.

Note to All Employers

Employers are reminded that the laws requiring proper employment eligibility verification and prohibiting unfair immigration-related employment practices remain in full force. This Federal Register Notice does not supersede or in any way limit applicable employment verification rules and policy guidance, including those rules setting forth reverification requirements. For general questions about the employment eligibility verification process, employers may call USCIS at 888-464-4218 (TTY 877-875-6028) or email I-9Central@dhs.gov. Calls and emails are accepted in English and many other languages. For questions about avoiding discrimination during the employment eligibility verification process, employers may also call the U.S. Department of Justice, Office of Special Counsel for Immigration-Related Unfair Employment Practices (OSC) Employer Hotline at 800-255-8155 (TTY 800-237-2515), which offers language interpretation in numerous languages, or email OSC at osccrt@usdoj.gov.

Note to Employees

For general questions about the employment eligibility verification process, you may call USCIS at 888-897-7781 (TTY 877-875-6028) or email I-9Central@dhs.gov. Calls are accepted in English and many other languages. You may also call the OSC Worker Information Hotline at 800-255-7688 (TTY 800-237-2515) for information regarding employment discrimination based upon citizenship status, immigration status, or national origin, including discrimination related to Form I-9 and E-Verify. The OSC Worker Information Hotline provides language interpretation in numerous languages.

To comply with the law, employers must accept any document or combination of documents from the Lists of Acceptable Documents if the documentation reasonably appears to be genuine and to relate to the employee, or an acceptable receipt described in the Employment Eligibility Verification (Form I-9) Instructions. Employers may not require extra or additional documentation beyond what is required for Employment Eligibility Verification (Form I-9) completion. Further, employers participating in E-Verify who receive an E-Verify case result of “Tentative Nonconfirmation” (TNC) must promptly inform employees of the TNC and give such employees an opportunity to contest the TNC. A TNC case result means that the information entered into E-Verify from Employment Eligibility Verification (Form I-9) differs from Federal or State government records.

Employers may not terminate, suspend, delay training, withhold pay, lower pay, or take any adverse action against you based on your decision to contest a TNC or because the case is still pending with E-Verify. A Final Nonconfirmation (FNC) case result is received when E-Verify cannot verify your employment eligibility. An employer may terminate employment based on a case result of FNC. Work-authorized employees who receive an FNC may call USCIS for assistance at 888-897-7781 (TTY 877-875-6028). If you believe you were discriminated against by an employer in the E-Verify process based on citizenship, immigration status, or national origin, you may contact OSC's Worker Information Hotline at 800-255-7688 (TTY 800-237-2515). Additional information about proper nondiscriminatory Employment Eligibility Verification (Form I-9) and E-Verify procedures is available on the OSC Web site at http://www.justice.gov/crt/about/osc/ and the USCIS Web site at http://www.dhs.gov/E-verify.

Note Regarding Federal, State, and Local Government Agencies (Such as Departments of Motor Vehicles)

While Federal Government agencies must follow the guidelines laid out by the Federal Government, State and local government agencies establish their own rules and guidelines when granting certain benefits. Each State may have different laws, requirements, and determinations about what documents you need to provide to prove eligibility for certain benefits. Whether you are applying for a Federal, State, or local government benefit, you may need to provide the government agency with documents that show you are a TPS beneficiary and/or show you are authorized to work based on TPS. Examples are:

(1) Your unexpired EAD;

(2) A copy of this Federal Register Notice if your EAD is automatically extended under this Notice;

(3) A copy of your Application for Temporary Protected Status Notice of Action (Form I-797);

(4) A copy of your past or current Application for Temporary Protected Status Approval Notice (Form I-797), if you received one from USCIS; and/or

(5) If there is an automatic extension of work authorization, a copy of the fact sheet from the USCIS TPS Web site that provides information on the automatic extension.

Check with the government agency regarding which document(s) the agency will accept. You may also provide the agency with a copy of this Federal Register Notice.

Some benefit-granting agencies use the USCIS Systematic Alien Verification for Entitlements Program (SAVE) to confirm the current immigration status of applicants for public benefits. In most cases, SAVE provides an automated electronic response to benefit granting agencies within seconds but occasionally verification can be delayed. You can check the status of your SAVE verification by using CaseCheck at the following link: https://save.uscis.gov/casecheck/, then by clicking the “Check Your Case” button. CaseCheck is a free service that lets you follow the progress of your SAVE verification using your date of birth and one immigration identifier number. If such an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request to correct records under the Freedom of Information Act can be found at the SAVE Web site at http://www.uscis.gov/save, then by choosing “For Benefits Applicants” from the menu on the left and selecting “Questions about your Records?”.

[FR Doc. 2016-23249 Filed 9-22-16; 4:15 pm]

BILLING CODE 9111-97-P